DEPARTMENT OF COMMERCE

National Oceanic and Atmospheric Administration

RIN 0648-XA288

Marine Mammals; File No. 15748

AGENCY: National Marine Fisheries Service (NMFS), National Oceanic and Atmospheric Administration (NOAA), Commerce.

ACTION: Notice; receipt of application.

SUMMARY: Notice is hereby given that the Alaska SeaLife Center (ASLC), Seward, AK, has applied for a permit to conduct research on Weddell seals (Leptonychotes weddellii).

DATES: Written, telefaxed, or e-mail comments must be received on or before April 13, 2011.

ADDRESSES: The application and related documents are available for review by selecting “Records Open for Public Comment” from the Features box on the Applications and Permits for Protected Species (APPS) home page, https://apps.nmfs.noaa.gov, and then selecting File No. 15748 from the list of available applications.

These documents are also available upon written request or by appointment in the following office(s):

Permits, Conservation and Education Division, Office of Protected Resources, NMFS, 1315 East-West Highway, Room 13705, Silver Spring, MD 20910; phone (301) 713-2289; fax (301) 713-0376; and

Alaska Region, NMFS, P.O. Box 21668, Juneau, AK 99802-1668; phone (907) 586-7221; fax (907) 586-7249.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Tammy Adams or Joselyd Garcia-Reyes, (301) 713-2289.

SUPPLEMENTARY INFORMATION: The subject permit is requested under the authority of the Marine Mammal Protection Act of 1972, as amended (MMPA; 16 U.S.C. 1361 et seq.), and the regulations governing the taking and importing of marine mammals (50 CFR part 216).

The ASLC requests a four-year permit to study thermoregulation in free-living Weddell seals in McMurdo Sound and along the shore of Ross Island, Antarctica. The research would involve capture of up to 30 adult females and 20 pups/juveniles of either sex annually. Adult females determined to not be pregnant and pups/juveniles of either sex would be anesthetized or sedated, have scientific instruments attached externally and inserted internally, be measured and weighed, have blood and blubber samples collected, and receive an ultrasound. Animals would be recaptured, with anesthesia or sedation, to retrieve instruments. An additional 300 seals of any age and either sex may be harassed incidental to the captures. The ASLC requests permission for up to 2 research-related mortalities per year of any animals affected by the research. Samples collected would be exported from Antarctica for analysis in the U.S.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 8, 2011.
Tammy C. Adams,
Acting Chief, Permits, Conservation and Education Division, Office of Protected Resources, National Marine Fisheries Service.

[FR Doc. 2011-5852 Filed 3-11-11; 8:45 am]

BILLING CODE 3510-22-P